Title 3—

The President

Proclamation 8479 of March 1, 2010

Irish-American Heritage Month, 2010

By the President of the United States of America

A Proclamation

From long before American independence to today, countless individuals have reached our shores, bringing vibrant cultures and diverse roots, and immeasurably enriching our Nation. This month, we honor the contributions made by the tens of millions of Americans who trace their heritage to the Emerald Isle.

Irish Americans fought for our independence, and their signatures adorn our founding documents. When famine ravaged Ireland in the 1840s and 1850s, many Irish men and women sought a new beginning in the United States. Though they faced poverty and discrimination, these immigrants transformed our cities, served in our Armed Forces, and settled the frontiers of our young Nation. Their children, and succeeding generations of Irish Americans, have preserved their culture’s values while becoming leaders in every facet of American life.

During this year’s Irish-American Heritage Month, we also celebrate an extraordinary Irishman: Senator Edward M. Kennedy. Throughout his career in public service, Senator Kennedy worked tirelessly to create opportunity for all Americans. His legacy lives on in the legislation he championed, which will bolster and protect the health, education, and civil rights of Americans for generations to come.

Across the Atlantic, the people of Ireland continue to confront their own challenges with resolve and determination. In the face of violence perpetuated by some—testing a hard-earned peace—the people of Northern Ireland have responded heroically. Undaunted, they and their leaders persist on the road to peace and prosperity enshrined over a decade ago in the Good Friday Agreement. The United States remains committed to supporting the political process and the work of those who have shown leadership in pursuit of a lasting peace.

Today, the sons and daughters of Erin can look back with pride on their many contributions to the civic and cultural life of America. Like so many of our Nation’s ethnic communities, Irish Americans are a people whose hard work and resilience have brought them great opportunity and success, and whose service to our Nation has left it a better place.

NOW, THEREFORE, I, BARACK OBAMA, President of the United States of America, by the virtue of the authority vested in me by the Constitution and the laws of the United States do hereby proclaim March 2010 as Irish-American Heritage Month. I call upon all Americans to observe this month by celebrating the contributions of Irish American to our Nation with appropriate ceremonies and activities.

IN WITNESS WHEREOF, I have hereunto set my hand this first day of March, in the year of our Lord two thousand ten, and of the Independence of the United States of America the two hundred and thirty-fourth.

[FR Doc. 2010-4880

Filed 3-4-10; 8:45 am]

Billing code 3195-W0-P